DEPARTMENT OF TRANSPORTATION

Federal Aviation Administration

Deadline for Notification of Intent To Use the Airport Improvement Program (AIP) Sponsor Entitlement, Cargo Funds, and Nonprimary Entitlement Funds for Fiscal Year 2002

AGENCY: Federal Aviation Administration, DOT.

ACTION: Notice.

SUMMARY: The Federal Aviation Administration (FAA) announces May 1, 2002, as the deadline for each airport sponsor to notify the FAA that it will use its fiscal year 2002 entitlement funds to accomplish projects identified in the Airports Capital Improvement Plan that was formulated in the spring of 2001.

FOR FURTHER INFORMATION CONTACT: Mr. Stan Lou, Manager, Program Implementation Branch, Airports Financial Assistance Division, Office of Airport Planning and Programming, APP-520, on (202) 267-8812.

SUPPLEMENTARY INFORMATION: Section 47105(f) of Title 49, United States Code, provides that the sponsor of each airport to which funds are apportioned shall notify the Secretary by such time and in a form as prescribed by the Secretary, of the sponsor's intent to apply for the funds apportioned to it (entitlements). This notice applies only to those airports that have received such entitlements, except those nonprimary airports located in designated Block Grant States. Notification of the sponsor's intent to apply during fiscal year 2002 for any of its available entitlement funds including those unused from prior years, shall be in the form of inclusion of projects for fiscal year 2002 in the Airports Capital Improvement Plan.

This notice is promulgated to expedite and prioritize grants in the final quarter of the fiscal year. Absent an acceptable application by May 1, 2002, FAA will defer an airport's entitlement funds until the next fiscal year. Pursuant to the authority and limitations in section 47117(f), FAA will issue discretionary grants in an aggregate amount not to exceed the aggregate amount of deferred entitlement funds. Airport sponsors may request unused entitlements after September 30, 2002.

Issued in Washington, DC on March 6, 2002.
Stan Lou,
Manager, Program Implementation Branch.

[FR Doc. 02-6133 Filed 3-13-02; 8:45 am]

BILLING CODE 4910-13-M